NUCLEAR REGULATORY COMMISSION

[Docket No. 50-425; NRC-2012-0169]

Southern Nuclear Operating Company, Inc.; Notice of Withdrawal of Application for Amendment to Facility Operating License

The U.S. Nuclear Regulatory Commission (the Commission) has granted the request of Southern Nuclear Operating Company, Inc. (the licensee) to withdraw its December 19, 2011, application for proposed amendment to Facility Operating License No. NPF-81 for the Vogtle Electric Generating Plant, Unit 2, located in Burke County, Georgia.

The proposed amendment would have revised the Technical Specifications related to the Engineered Safety Features Room Cooler and Safety-Related Chiller System, Allowed Completion Time for Condition A.

The Commission had previously issued a Notice of Consideration of Issuance of Amendment published in the Federal Register on February 7, 2012 (77 FR 6149). However, by letter dated June 19, 2012, the licensee withdrew the proposed change.

For further details with respect to this action, see the application for amendment dated December 19, 2011, and the licensee's letter dated June 19, 2012, which withdrew the application for license amendment. Documents may be examined, and/or copied for a fee, at the NRC's Public Document Room (PDR), located at One White Flint North, Public File Area O1 F21, 11555 Rockville Pike (first floor), Rockville, Maryland 20852. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 5th day of July 2012.
For the Nuclear Regulatory Commission.
Patrick G. Boyle,
Project Manager, Plant Licensing Branch II-1, Division of Operating Reactor Licensing, Office of Nuclear Reactor Regulation.

[FR Doc. 2012-17121 Filed 7-12-12; 8:45 am]

BILLING CODE 7590-01-P